DEPARTMENT OF ENERGY

Federal Energy Regulatory Commission

Combined Notice of Filings #1

Take notice that the Commission received the following electric corporate filings:

Docket Numbers: EC16-49-000.

Applicants: TerraForm Private LLC, Meadow Creek Project Company LLC, Goshen Phase II LLC, Wolverine Creek Goshen Interconnection LLC, Canadian Hills Wind, LLC, Rockland Wind Farm LLC, Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Application for Authorization Under Section 203 of the Federal Power Act, Requests for Expedited Action, Waivers of Filing Requirements and Confidential Treatment of Transaction Document of TerraForm Private LLC, et al.

Filed Date: 12/10/15.

Accession Number: 20151210-5189.

Comments Due: 5 p.m. ET 12/31/15.

Take notice that the Commission received the following electric rate filings:

Docket Numbers: ER16-86-001.

Applicants: Arizona Public Service Company.

Description: Compliance filing: Rate Schedule No. 217 Exhibit D, Weed Control to be effective 12/15/2015.

Filed Date: 12/10/15.

Accession Number: 20151210-5158.

Comments Due: 5 p.m. ET 12/31/15.

Docket Numbers: ER16-505-000.

Applicants: South Central MCN LLC.

Description: Baseline eTariff Filing: South Central MCN LLC Wholesale Distribuition Agreements to be effective 1/1/2016.

Filed Date: 12/10/15.

Accession Number: 20151210-5179.

Comments Due: 5 p.m. ET 12/31/15.

Docket Numbers: ER16-506-000.

Applicants: PJM Interconnection, L.L.C., West Penn Power Company, The Potomac Edison Company, Trans-Allegheny Interstate Line Company, Monongahela Power Company.

Description: Section 205(d) Rate Filing: West Penn et al submit two IA Nos. 4160 & 4313 and ECSA No. 4314 to be effective 2/12/2016.

Filed Date: 12/11/15.

Accession Number: 20151211-5113.

Comments Due: 5 p.m. ET 1/4/16.

Take notice that the Commission received the following electric securities filings:

Docket Numbers: ES16-10-000.

Applicants: Rochester Gas & Electric Corporation.

Description: Application for Authorization to Issue Short Term Debt of Rochester Gas and Electric Corporation.

Filed Date: 12/10/15.

Accession Number: 20151210-5185.

Comments Due: 5 p.m. ET 12/31/15.

Docket Numbers: ES16-11-000.

Applicants: Westar Energy, Inc.

Description: Application for Authority To Issue and Pledge Securities of Westar Energy, Inc.

Filed Date: 12/11/15.

Accession Number: 20151211-5063.

Comments Due: 5 p.m. ET 1/4/16.

Docket Numbers: ES16-12-000.

Applicants: Kansas Gas and Electric Company.

Description: Application under Section 204 of Kansas Gas and Electric Company.

Filed Date: 12/11/15.

Accession Number: 20151211-5073.

Comments Due: 5 p.m. ET 1/4/16.

Docket Numbers: ES16-13-000.

Applicants: Kansas Gas and Electric Company.

Description: Application under Section 204 of Kansas Gas and Electric Company.

Filed Date: 12/11/15.

Accession Number: 20151211-5074.

Comments Due: 5 p.m. ET 1/4/16.

Docket Numbers: ES16-14-000.

Applicants: Prairie Wind Transmission, LLC.

Description: Application of Prairie Wind Transmission, LLC for Authorization under Section 204 of the Federal Power Act.

Filed Date: 12/11/15.

Accession Number: 20151211-5093.

Comments Due: 5 p.m. ET 1/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2015.
Nathaniel J. Davis, Sr.,
Deputy Secretary.

[FR Doc. 2015-31718 Filed 12-16-15; 8:45 am]

BILLING CODE 6717-01-P